DEPARTMENT OF THE INTERIOR

National Park Service

Notice of Inventory Completion: University of Oregon Museum of Natural History, Eugene, OR, and U.S. Department of Defense, Army Corps of Engineers, Portland District, Portland, OR; Correction

AGENCY: National Park Service, Interior.

ACTION: Notice; correction.

Notice is here given in accordance with the Native American Graves Protection and Repatriation Act (NAGPRA), 25 U.S.C. 3003, of the completion of an inventory of human remains and associated funerary objects for which the University of Oregon Museum of Natural History, Eugene, OR, and the U.S. Department of Defense, Army Corps of Engineers, Portland District, Portland, OR, have joint responsibility. The human remains and associated funerary objects were removed from archeological sites on U.S. Army Corps of Engineers land located within the John Day Dam project area in Morrow County, OR, and Benton County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the number of human remains and associated funerary objects reported in a notice of inventory completion published in the Federal Register on October 8, 2003 (FR Doc. 03-25535, pages 58139-5140).

In June 2004, representatives of the cultural resources staff of the Confederated Tribes of the Umatilla Reservation, Oregon examined the faunal collections from sites 45 BN 64 (Eye site), 45 BN 77, 45 BN 81, and 35 MW 10 (Tom's Camp site), for human remains and associated funerary objects that might have been misidentified. The Collections Director and Physical Anthropologist for the University of Oregon Museum of Natural History examined the materials from the faunal collections that the Confederated Tribes of the Umatilla Reservation, Oregon identified for re-examination. The examination by the Collections Director and Physical Anthropologist identified human remains representing one additional individual and one associated funerary object from site 45 BN 81 and one associated funerary object from site 35 MW 10. In light of the findings from these examinations, the original notice of inventory is amended to include additions to the minimum number of individuals and associated funerary objects from 45 BN 81 site, and an addition of one associated funerary object for site 35 MW 10 (Tom's Camp).

The October 8, 2003 notice is corrected by substituting the following paragraphs:

The following paragraph is substituted for paragraph 11:

In 1963, human remains representing a minimum of two individuals were removed from site 45 BN 81 on Blalock Island, Benton County, WA, in the Columbia River within the John Day Dam project area. No known individuals were identified. The 72 associated funerary objects are 11 glass beads, 14 shell beads, 1 piece of copper, 1 copper button, 1 large maul, 3 points, 1 graver, 1 knife, 3 scrapers, 2 chert fragments, 23 flakes, 12 identified bones and 1 piece of charcoal.

The following paragraph is substituted for paragraph 13:

In 1967, human remains representing a minimum of two individuals were removed from the Tom's Camp site (35 MW 10), 3 miles west of the former town of Boardman, Morrow County, OR, on the south bank of the Columbia River, in the John Day Dam project area. No known individuals were identified. The one associated funerary object is a dentalium shell bead.

The following paragraph is substituted for paragraph 16:

Officials of the Army Corps of Engineers, Portland District have determined that, pursuant to 25 U.S.C. 3001(9-10), the human remains described above represent the physical remains of 21 individuals of Native American ancestry. Officials of the Army Corps of Engineers, Portland District also have determined that, pursuant to 25 U.S.C. 3001(3)(A), the 954 objects described above are reasonably believed to have been placed with or near individual human remains at the time of death or later as part of the death rite or ceremony. Lastly, officials of the Army Corps of Engineers, Portland District have determined that, pursuant to 25 U.S.C. 3001 (2), there is a relationship of shared group identity that can be reasonably traced between the Native American human remains and associated funerary objects and the Confederated Tribes of the Umatilla Indian Reservation, Oregon.

Representatives of any other Indian tribe that believes itself to be culturally affiliated with the human remains and associated funerary objects should contact Mr. Bert Rader, NAGPRA Coordinator, Environmental Resources Branch, U.S. Department of Defense, U.S. Army Corps of Engineers, Portland District, P.O. Box 2946, Portland, OR 97208-2946, telephone (503) 808-4766, before September 26, 2005. Repatriation of the human remains and associated funerary objects to the Confederated Tribes of the Umatilla Indian Reservation, Oregon may proceed after that date if no additional claimants come forward.

The Army Corp of Engineers, Portland District is responsible for notifying the Confederated Tribes of the Umatilla Indian Reservation, Oregon that this notice has been published.

Dated: July 26, 2005
Sherry Hutt,
Manager, National NAGPRA Program.

[FR Doc. 05-16883 Filed 8-24-05; 8:45 am]

BILLING CODE 4312-50-S